ENVIRONMENTAL PROTECTION AGENCY

[ER-FRL-9042-9]

Environmental Impact Statements; Notice of Availability

Responsible Agency: Office of Federal Activities, General Information 202-564-5632 or https://www.epa.gov/nepa/.

Weekly receipt of Environmental Impact Statements

Filed 12/10/2018 Through 12/14/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180312, Draft, USACE, CO, Cherry Creek Dam Safety Modification Study, Comment Period Ends: 02/04/2019, Contact: John Palensky 402-995-2719

EIS No. 20180313, Draft, USFS, ID, John Wood Forest Management Project, Comment Period Ends: 02/04/2019, Contact: Bryan Fuell 208-547-4356

EIS No. 20180314, Final, NPS, TN, Big South Fork National River and Recreation Area Final Contaminated Mine Drainage Mitigation and Treatment Programmatic and Site Specific Environmental Impact Statement, Review Period Ends: 01/22/2019, Contact: Michael Edwards 303-969-2694

EIS No. 20180316, Draft Supplement, USFS, SC, AP Loblolly Pine Removal and Restoration Project, Comment Period Ends: 02/04/2019, Contact: Victor Wyant 864-638-9568

EIS No. 20180317, Draft, FERC, TX, Annova LNG Brownville Project, Comment Period Ends: 02/04/2019, Contact: Office of External Affairs 866-208-3372

EIS No. 20180318, Final, NMFS, NAT, Amendment 11 to the 2006 Consolidated Atlantic Highly Migratory Species Fishery Management Plan, Review Period Ends: 01/22/2019, Contact: Guy DuBeck 301-427-8503

EIS No. 20180319, Draft, NMFS, AL, State Management Program for Recreational Red Snapper Amendment 50A to the Fishery Management Plan for the Reef Fish Resources of the Gulf of Mexico, Comment Period Ends: 02/04/2019, Contact: Lauren Waters 727-824-5305

Amended Notices

EIS No. 20180282, Final, USACE, IL, The Great Lakes and Mississippi River Interbasin Study—Brandon Road Integrated Feasibility Study and Environmental Impact Statement—Will County, Illinois, Review Period Ends: 01/07/2019, Contact: Andrew Leichty 309-794-5399 Revision to FR Notice Published 11/23/2018; Extending the Comment Period from 12/24/2018 to 01/07/2019.

Dated: December 18, 2018.
Kelly Knight,
Acting Director, Office of Federal Activities.

[FR Doc. 2018-27711 Filed 12-20-18; 8:45 am]

BILLING CODE 6560-50-P